DEPARTMENT OF THE INTERIOR

National Park Service

[2410-OYC]

Notice of Continuation of Visitor Services

AGENCY: National Park Service, Interior.

ACTION: Public notice.

SUMMARY: Pursuant to the terms of the listed existing concession contract, the National Park Service hereby gives notice that it has continued visitor services for a period not-to-exceed 1 year from the date of contract expiration.

DATES: Effective Date: January 1, 2012.

SUPPLEMENTARY INFORMATION: The contract listed below has been extended to the maximum allowable under 36 CFR 51.23. Under the provisions of the current concession contract and pending the completion of the public solicitation of a prospectus for a new authorization, the National Park Service authorizes continuation of visitor services for a period not-to-exceed 1 year under the terms and conditions of the current contract as amended. The continuation of operations does not affect any rights with respect to selection for award of a new authorization.

Conc ID No. | Concessioner name | Park
INDE001-94 | Concepts by Staib, Ltd | Independence National Historical Park.

FOR FURTHER INFORMATION CONTACT: Jo A. Pendry, Chief, Commercial Services Program, National Park Service, 1201 Eye Street NW., 11th Floor, Washington, DC 20005, Telephone (202) 513-7156.

Dated: January 11, 2012.
Robert M. Gordon,
Acting Associate Director, Business Services.

[FR Doc. 2012-6963 Filed 3-21-12; 8:45 am]

BILLING CODE 4312-53-P